GENERAL SERVICES ADMINISTRATION

[OMB Control No. 3090-00XX; Docket No. 2013-0001; Sequence 8]

Information Collection; MyUSA

AGENCY: Office of Citizen Services and Innovative Technologies (OCSIT), General Services Administration (GSA).

ACTION: Notice of request for comments regarding a new information collection.

SUMMARY: Under the provisions of the Paperwork Reduction Act (44 U.S.C. chapter 35), the Regulatory Secretariat Division will be submitting to the Office of Management and Budget (OMB) a request to review and approve a new information collection requirement regarding MyUSA.

DATES: Submit comments on or before October 15, 2013.

ADDRESSES: Submit comments identified by Information Collection 3090-00XX; MyUSA by any of the following methods:

• Regulations.gov: http://www.regulations.gov. Submit comments via the Federal eRulemaking portal by searching for “Information Collection 3090-00XX; MyUSA”. Select the link “Submit a Comment” that corresponds with “Information Collection 3090-00XX; MyUSA”. Follow the instructions provided at the “Submit a Comment” screen. Please include your name, company name (if any), and “Information Collection 3090-00XX; MyUSA” on your attached document.

• Fax: 202-501-4067.

• Mail: General Services Administration, Regulatory Secretariat (MVCB), 1800 F Street NW., 2nd Floor, Washington, DC 20405-0001. ATTN: Hada Flowers/IC 3090-00XX; MyUSA.

Instructions: Please submit comments only and cite Information Collection 3090-00XX; MyUSA, in all correspondence related to this collection. All comments received will be posted without change to http://www.regulations.gov, including any personal and/or business confidential information provided.

FOR FURTHER INFORMATION CONTACT: Sarah Crane, Director, Office of Citizen Services and Innovative Technologies, General Services Administration, at telephone number 202-208.5855, or via email to Sarah.Crane@gsa.gov.

SUPPLEMENTARY INFORMATION:

A. Purpose

MyUSA (https://my.usa.gov) provides an account to users that gives them control over their interactions with government agencies and how government uses and accesses their personal information. Users have the option of creating a personal profile that can be reused across government to personalize interactions and streamline common tasks such as filling out forms. Government agencies can build applications that can request permission from the user to access their MyUSA Account and read their personal profile.

The information in the system is contributed voluntarily by the user and cannot be accessed by the government without explicit consent of the user; information is not shared between government agencies, except when the user gives explicit consent to share his or her information, and as detailed in the MyUSA System of Records Notice (http://www.gpo.gov/fdsys/pkg/FR-2013-07-05/pdf/2013-16124.pdf).

The information collected is basic profile information, and may include: name, home address, phone number, gender, marital status and basic demographic information such as whether the individual is married, a veteran, a small business owner, a parent or a student.

Use of the system, and contribution of personal information, is completely voluntary.

B. Public Comments

Pursuant to section 3506(c)(2)(A) of the PRA, GSA specifically solicits comments and information to enable it to:

1. Evaluate whether the proposed collection of information is necessary for the proper performance of the functions of the Agency, including whether the information will have practical utility;

2. Evaluate the accuracy of the Agency's estimate of the burden of the proposed collection of information, including the validity of the methodology and assumptions used;

3. Enhance the quality, utility, and clarity of the information to be collected; and

4. Minimize the burden of the collection of information on those who are to respond, including through the use of appropriate automated electronic, mechanical, or other technological collection techniques or other forms of information technology, e.g., permitting electronic submission of responses.

C. Annual Reporting Burden

Respondents: 10,000.

Responses per Respondent: 1.

Total annual responses: 10,000.

Hours per Response: .25.

Total Burden Hours: 2,500.

Obtaining Copies of Proposals: General Services Administration, Regulatory Secretariat (MVCB), 1800 F Street NW., 2nd Floor, Washington, DC 20405-0001, telephone 202-501-4755. ATTN: Hada Flowers/IC 3090-00xx; MyUSA. Please cite OMB Control No. 3090-XXXX; MyUSA, in all correspondence.

Dated: August 8, 2013.
Casey Coleman,
Chief Information Officer.

[FR Doc. 2013-19633 Filed 8-12-13; 8:45 am]

BILLING CODE 6820-34-P